DEPARTMENT OF ENERGY

Federal Energy Regulatory Commission

[Project No. 2662-022]

FirstLight Hydro Generating Company; Notice of Application for Amendment of License and Soliciting Comments, Motions To Intervene, and Protests

Take notice that the following hydroelectric application has been filed with the Commission and is available for public inspection:

a. Application Type: Recreation Plan pursuant to Article 416.

b. Project No: 2662-022.

c. Date Filed: November 14, 2014 and supplemented on January 22, 2015.

d. Applicant: FirstLight Hydro Generating Company.

e. Name of Project: Scotland Hydroelectric Project.

f. Location: The project is located on the Shetucket River, in Windham County, Connecticut.

g. Filed Pursuant to: Federal Power Act, 16 U.S.C. 791a-825r.

h. Applicant Contact: Mr. Richard T. Laudenat, P.E., Plant Manager, FirstLight Power Resources, LLC, 143 West Street Suite E, New Milford, CT 06776, (860)-350-3617.

i. FERC Contact: Krista Sakallaris at (202) 502-6302, Krista.Sakallaris@ferc.gov.

j. Deadline for filing comments, motions to intervene, and protests: March 9, 2015.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (p-2662-022) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee's recreation plan proposes to relocate the existing tailrace fishing access area from the east bank of the Shetucket River (river), as required by Article 416, to the west bank of the river. The proposed change in location is due to the presence of an existing railroad that runs parallel to the shoreline. The railroad prohibits the public from to crossing railroad property to access the east bank for fishing due to safety concerns. Consequently, the informal path to the river has been closed. If the recreation plan is approved, the licensee would relocate the tailrace fishing access area to the tailrace section on the west bank of the river. The new site would be accessible to the public by watercraft only. The licensee is proposing this location to keep the fishing access area within the tailrace and to maintain the characteristics of its previously provided area.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: February 5, 2015.
Kimberly D. Bose,
Secretary.

[FR Doc. 2015-02929 Filed 2-11-15; 8:45 am]

BILLING CODE 6717-01-P